ENVIRONMENTAL PROTECTION AGENCY

40 CFR Part 52

[EPA-R06-OAR-2007-0314; FRL-9202-6]

Approval and Promulgation of Implementation Plans; Oklahoma; State Implementation Plan Revisions for Interstate Transport of Pollution, Prevention of Significant Deterioration, Nonattainment New Source Review, Source Registration and Emissions Reporting and Rules of Practice and Procedure

AGENCY: Environmental Protection Agency (EPA).

ACTION: Proposed rule.

SUMMARY: EPA is proposing to approve part of a State Implementation Plan (SIP) revision submitted by the State of Oklahoma for the purpose of addressing the “good neighbor” provisions of Clean Air Act (the Act or CAA) section 110(a)(2)(D)(i) for the 1997 8-hour ozone National Ambient Air Quality Standards (NAAQS or standards) and the 1997 fine particulate matter (PM2.5) NAAQS. This SIP revision satisfies a portion of the State's obligation to submit a SIP revision that demonstrates that adequate provisions are in place to prohibit air emissions from adversely affecting another State's air quality through interstate transport. In this action, EPA is proposing to approve the Oklahoma Interstate Transport SIP provisions that address the requirement of section 110(a)(2)(D)(i)(II) that emissions from sources in Oklahoma do not interfere with measures required in the SIP of any other State under part C of the CAA to prevent “significant deterioration of air quality.” EPA is also proposing to approve portions of the revision to the Oklahoma SIP submitted on February 14, 2002, which relate to Prevention of Significant Deterioration (PSD) and Nonattainment New Source Review (NNSR) for major sources, source registration and emissions reporting and other rules of practice and procedure (except for revisions relating to minor sources). Finally, for purposes of the 1997 8-hour ozone NAAQS, EPA also is proposing to approve the portions of the SIP revision submitted on June 24, 2010 to include nitrogen oxides (NOX) as an ozone precursor in Oklahoma's PSD SIP. This action is being taken under section 110 and parts C and D of the Act.

DATES: Written comments must be received on or before October 18, 2010.

ADDRESSES: Submit your comments, identified by Docket No. EPA-R06-OAR-2007-0314, by one of the following methods:

• Federal e-Rulemaking Portal: http://www.regulations.gov.

• Follow the online instructions for submitting comments.

• EPA Region 6 “Contact Us” Web site: http://epa.gov/region6/r6coment.htm. Please click on “6PD (Multimedia)” and select “Air” before submitting comments.

• E-mail: Mr. Guy Donaldson at donaldson.guy@epa.gov. Please also send a copy by e-mail to the person listed in the FOR FURTHER INFORMATION CONTACT section below.

• Fax: Mr. Guy Donaldson, Chief, Air Planning Section (6PD-L), at fax number 214-665-7263.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays, and not on legal holidays. Special arrangements should be made for deliveries of boxed information.

Instructions: Direct your comments to Docket No. EPA-R06-OAR-2007-0314. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at 214-665-7253 to make an appointment. If possible, please make the appointment at least two working days in advance of your visit. There will be a 15 cent per page fee for making photocopies of documents. On the day of the visit, please check in at the EPA Region 6 reception area at 1445 Ross Avenue, Suite 700, Dallas, Texas.

The State submittal is also available for public inspection during official business hours, by appointment, at the Oklahoma Department of Environmental Quality, 707 North Robinson, P.O. Box 1677, Oklahoma City, Oklahoma 73101-1677.

FOR FURTHER INFORMATION CONTACT: Carl Young, Air Planning Section (6PD-L), Environmental Protection Agency, Region 6, 1445 Ross Avenue, Suite 700, Dallas, Texas 75202-2733, telephone (214) 665-6645; fax number (214) 665-7263; e-mail address young.carl@epa.gov. For further information regarding PSD or NNSR, contact: Rick Barrett or Dinesh Senghani, Air Permits Section (6PD-R), Environmental Protection Agency, Region 6, 1445 Ross Avenue, Suite 700, Dallas, Texas 75202-2733, telephone (214) 665-7227 or (214) 665-7221; fax number (214) 665-7263; e-mail address barrett.richard@epa.gov or senghani.dinesh@epa.gov.

SUPPLEMENTARY INFORMATION: Throughout this document wherever “we,” “us,” or “our” is used, we mean the EPA.

Outline

I. What action is EPA proposing to take?

II. What is a SIP?

III. What is the background for this proposed Action?

IV. What is EPA's evaluation of the State's submissions?

V. Statutory and Executive Order Reviews

I. What action is EPA proposing to take?

A. Oklahoma Demonstration of Adequate Provisions Prohibiting Emissions That Interfere With Prevention of Significant Deterioration Measures in Other States

We are proposing to approve a submission from the State of Oklahoma demonstrating that the State has adequately addressed one of the required elements of the CAA section 110(a)(2)(D)(i), the element that requires that the State Implementation Plan prohibit air pollutant emissions from sources within a State from interfering with measures required to prevent significant deterioration of air quality in any other State. We are proposing to determine that emissions from sources in Oklahoma do not interfere with measures to prevent significant deterioration of air quality in any other State for the 1997 8-hour ozone NAAQS or of the 1997 PM2.5 NAAQS (CAA section 110(a)(2)(D)(i)(II)). In this action, we are not addressing the elements of section 110(a)(2)(D)(i) for the 1997 8-hour ozone and PM2.5 NAAQS, that pertain to prohibiting air pollutant emissions from within Oklahoma from: (1) Significantly contributing to nonattainment in any other State, (2) interfering with maintenance of the relevant NAAQS in any other State and (3) interfering with measures required to protect visibility in any other State. These will be addressed in future rulemakings.¹

¹ In a separate action we have proposed to limit the interstate transport of NOX emissions from Oklahoma that affect the ability of downwind States to attain and maintain compliance with the 1997 ozone NAAQS pursuant to CAA 110(a)(2)(D)(i)(I) (75 FR 45210, August 2, 2010).

In conjunction with our proposed finding that emissions from sources in Oklahoma are not interfering with any other State's PSD program, we are proposing to approve: (1) The portion of the SIP revision submitted by the State on February 14, 2002 related to PSD for major stationary sources and major modifications; and (2) the portion of the SIP revision submitted June 24, 2010 addressing NOX as an ozone precursor for PSD. We are proposing to approve these portions of the two SIP revision submittals as revisions to the Oklahoma PSD SIP.

EPA proposes to approve the foregoing revisions relevant to section 110(a)(2)(D)(i) pursuant to section 110 and part C of the Act.

B. Oklahoma SIP Revisions Submitted on February 14, 2002 and June 24, 2010

1. February 14, 2002 Submittal

In addition to proposing to approve the portion of the SIP revision submitted on February 14, 2002 that relates to PSD as a revision to the Oklahoma PSD SIP, we also are proposing to approve the portions that relate to: (1) NNSR permitting requirements for major stationary sources and major modifications as a revision to the Oklahoma NNSR SIP; (2) source registration and emissions reporting as part of the Oklahoma Major NSR SIP and (3) other rules of practice and procedure as part of the Oklahoma Major NSR SIP. We are proposing to approve (2) and (3) as meeting the PSD and NNSR SIP requirements. We are not acting upon the SIP revision submittal for Minor NSR SIP purposes, only for Major NSR SIP purposes. We will take separate action later in the Federal Register on the submittal with regard to the Minor NSR SIP requirements.

The submitted revision affects Title 252 of the Oklahoma Administrative Code (OAC 252), the official compilation of agency rules and executive orders for the State of Oklahoma. The majority of the revisions are administrative in nature, stemming from the State's initiative to repeal or otherwise modify redundant or incorrect language within the OAC. The variety of revisions includes recodified portions of the Oklahoma SIP, deletions of duplicative and outdated rules, and edits that simplify text and correct errors.

The revisions submitted in 2002 proposed for approval are discussed in more detail in the Technical Support Document (TSD) found in the electronic docket for this action. The electronic docket can be found at the Web site http://www.regulations.gov (docket number EPA-R06-OAR-2007-0314).

2. June 24, 2010 Submittal

In addition, we are proposing to approve only the portion of the SIP revision submitted by Oklahoma on June 24, 2010 to regulate NOX emissions as a precursor to ozone in its PSD program for major sources. We are only acting on the June 24, 2010 submittal as it relates to NOX as an ozone precursor. We will take separate action on the remainder of the June 24, 2010 submittal in a future Federal Register notice.

II. What is a SIP?

Section 110(a) of the Clean Air Act (CAA) requires each State to develop a plan that provides for the implementation, maintenance, and enforcement of the national ambient air quality standards (NAAQS). EPA establishes NAAQS under section 109 of the CAA. Currently, the NAAQS address six criteria pollutants: Carbon monoxide, nitrogen dioxide, ozone, lead, particulate matter, and sulfur dioxide.

The plan developed by a State is referred to as the State implementation plan (SIP).

The content of the SIP is specified in section 110 of the CAA, other provisions of the CAA, and applicable regulations. SIPs can be extensive, containing State regulations or other enforceable measures and various types of supporting information, such as emissions inventories, monitoring networks, and modeling demonstrations.

A primary purpose of the SIP is to provide the air pollution regulations, control strategies, and other means or techniques developed by the State to ensure that the ambient air within that State meets the NAAQS. However, another important aspect of the SIP is to ensure that emissions from within the State do not have certain prohibited impacts upon the ambient air in other States through interstate transport of pollutants. This SIP requirement is specified in section 110(a)(2)(D) of the CAA. Pursuant to that provision, each State's SIP must contain provisions adequate to prevent, among other things, emissions that interfere with measures required to be included in the SIP of any other State to prevent significant deterioration of air quality in any other State.

States are required to update or revise SIPs under certain circumstances. One such circumstance is EPA's promulgation of a new or revised NAAQS. Each State must submit these revisions to EPA for approval and incorporation into the Federally-enforceable SIP.

III. What is the background for this proposed action?

On July 18, 1997, EPA promulgated new NAAQS for 8-hour ozone and for fine particulate matter (PM2.5). This action is being taken in response to the promulgation of the 1997 8-hour ozone NAAQS and 1997 PM2.5 NAAQS. This action does not address the requirements for the 2006 PM2.5 NAAQS or the 2008 8-hour ozone NAAQS; those standards will be addressed in later actions.

Section 110(a)(1) of the CAA requires States to submit SIPs to address a new or revised NAAQS within 3 years after promulgation of such standards, or within such shorter period as EPA may prescribe. Section 110(a)(2) lists the elements that such new SIPs must address, as applicable, including section 110(a)(2)(D)(i), which pertains to interstate transport of certain emissions. On August 15, 2006, EPA issued its “Guidance for State Implementation Plan (SIP) Submission to Meet Current Outstanding Obligations Under Section 110(a)(2)(D)(i) for the 8-Hour Ozone and PM2.5 National Ambient Air Quality Standards” (2006 Guidance). EPA developed the 2006 Guidance to make recommendations to States for making submissions to meet the requirements of section 110(a)(2)(D)(i) for the 1997 8-hour ozone standards and the 1997 PM2.5 standards.

As identified in the 2006 Guidance, the “good neighbor” provisions in section 110(a)(2)(D)(i) require each State to submit a SIP that prohibits emissions that adversely affect another State in the ways contemplated in the statute. Section 110(a)(2)(D)(i) contains four distinct requirements related to the impacts of interstate transport. The SIP must prevent sources in the State from emitting pollutants in amounts which will: (1) Contribute significantly to nonattainment of the NAAQS in other States; (2) interfere with maintenance of the NAAQS in other States; (3) interfere with provisions to prevent significant deterioration of air quality in other States; or (4) interfere with efforts to protect visibility in other States.

On May 1, 2007, we received a SIP revision from the State of Oklahoma intended to address the requirements of section 110(a)(2)(D)(i) for both the 1997 8-hour ozone standards and 1997 PM2.5 standards. In this rulemaking we are addressing only the requirement that pertains to preventing sources in Oklahoma from emitting pollutants that will interfere with measures required to prevent significant deterioration of air quality in other States. In its submission, the State of Oklahoma stated that its New Source Review program for major sources satisfies this requirement. With this submission, the State would meet the requirement as contemplated in the 2006 Guidance for SIP submissions to meet the third element of CAA 110(a)(2)(D)(i).

On February 14, 2002 and June 24, 2010, the State of Oklahoma also submitted revisions to its SIP regulations to EPA. The 2002 revisions require certain stationary sources of air pollution to report annual emissions (an emissions inventory) to the State by March 1 of each year, with the provision for an extension of up to 60 days. The revisions also incorporate requirements of the Oklahoma Uniform Environmental Permitting Act (UEPA), which requires that the Oklahoma Department of Environmental Quality fit licenses, permits, certificates, approvals and registrations into a category, or Tier, established under the uniform environmental permitting rules. The UEPA was created to streamline the permitting process and is located in Oklahoma Statute Title 27A Environment and Natural Resources, Chapter 2 Oklahoma Environmental Quality Code, Sections 1 through 12. We previously approved portions of the February 14, 2002 submittal, (73 FR 79400, December 29, 2008), but did not act on other portions.

The June 24, 2010 submittal included revisions to the Oklahoma PSD regulations necessary to address NOX as a precursor for the 1997 8-hour ozone NAAQS (PSD Requirements for Attainment Areas, OAC 252:100-8). These revisions are discussed below. The June 24, 2010 submittal also included revisions to Subchapter 8 in OAC 252:100 (Permits for Part 70 Sources), which are severable from the NOX requirements addressed in this proposed action. As we are still reviewing the approvability of these other revisions, we are not proposing to take action on them in this proposed rulemaking. We intend to act on these other revisions in a future rulemaking.

IV. What is EPA's evaluation of the State's submissions?

A. Interference With PSD Measures in Other States

The third element of section 110(a)(2)(D)(i) requires a SIP to contain adequate provisions prohibiting emissions that interfere with any other State's required measures to prevent significant deterioration of its air quality. EPA's 2006 Guidance made recommendations for SIP submissions to meet this requirement with respect to both the 1997 8-hour ozone NAAQS and the 1997 PM2.5 NAAQS.

EPA believes that Oklahoma's submission is consistent with the 2006 Guidance, when considered in conjunction with other PSD program revisions that EPA is proposing to approve in this action. The State's submittal states that Oklahoma's New Source Review (NSR) program for major sources prohibits any source or other type of emission activity within the State from emitting any air pollutant in amounts which will interfere with measures required to be included in the applicable implementation plan of any other State to prevent significant deterioration of air quality. Oklahoma's regulations for its PSD program were approved by EPA and made part of the SIP on August 25, 1983 (48 FR 38636).² Oklahoma's requirement to demonstrate that an emissions increase would not interfere with another State's PSD measures (OAC 252:100-8-35(a)(1)) was previously approved by EPA as Section 1.4.4(f) of Oklahoma Regulation 1.4 (see the table at 40 CFR 52.1920(c)). Oklahoma submitted OAC 252:100-35 as a SIP revision on February 14, 2002. The revision recodified the regulation. The 2002 submittal is further discussed below and in the TSD for this action. Oklahoma submitted further revisions to its PSD program regulations on June 24, 2010 as discussed below.

² The New Source Review regulations in the Oklahoma SIP are found in: (1) OAC 252:100-8, Part 7, (PSD Requirements for Attainment Areas) and (2) OAC 252:100-8, Part 9, (Major Sources Affecting Nonattainment Areas). There are currently no nonattainment areas in Oklahoma.

Consistent with EPA's November 29, 2005, Phase 2 rule for the 1997 8-hour ozone NAAQS (70 FR 71612), the State submitted a SIP revision on June 24, 2010, to modify its PSD program to address NOX as an ozone precursor (OAC 252:100-8). These revisions are further discussed below. EPA believes that the PSD revision for the 1997 8-hour ozone NAAQS that makes NOX an ozone precursor for PSD purposes, taken together with the PSD SIP, the proposed revisions to the PSD SIP and the interstate transport SIP, satisfies the requirements of the third element of section 110(a)(2)(D)(i) for the 1997 8-hour ozone NAAQS, i.e., there will be no interference with any other State's required PSD measures because the Oklahoma SIP as proposed for approval meets current CAA requirements.

For the PM2.5 NAAQS, Oklahoma stated in its section 110(a)(2)(D)(i) submission that its NSR program includes an interim PSD permitting program for PM2.5. On July 29, 2010 the Oklahoma Department of Environmental Quality sent a letter to EPA and stated that they would implement the PM2.5 NAAQS consistent with Federal case law, and EPA Administrator petition decisions. ODEQ further stated that: (1) They will not proceed on the general presumption that PM10 is always a reasonable surrogate for PM2.5, (2) for any permit application in which the applicant is seeking to rely on the Surrogate Policy, they will include in the permit record an adequate rationale or demonstration to support the use of PM10 as a surrogate based on the facts and circumstances of the specific permit, (3) the permit record will include an explanation of how the impacts from the proposed source construction/modification on the PM2.5 levels were determined, and (4) they will be mindful of the limits provided in the policy itself, such as the need to identify the technical difficulties that justify the application of the policy in each specific case. The ODEQ letter is included in the electronic docket for this action. With these clarifications, EPA believes that Oklahoma's approach to PM2.5 permitting is appropriate.

On the basis of the analysis presented above EPA is proposing to determine that the Oklahoma SIP as revised with respect to PSD program requirements, satisfactorily addresses the requirement of CAA section 110(a)(2)(D)(i)(II) that emissions from Oklahoma sources do not interfere with PSD measures in other any other State for the 1997 8-hour ozone NAAQS and 1997 PM2.5 NAAQS.

B. Oklahoma SIP Revisions Submitted on February 14, 2002

As discussed above, the SIP revision submitted by Oklahoma on February 14, 2002 includes revisions that are administrative in nature and incorporate requirements of the Oklahoma Uniform Environmental Permitting Act.

Portions of the February 14, 2002, submittal already have been approved by EPA on December 29, 2008 (73 FR 79400). In that action, we identified the portions of the submittal for which we took no action: Chapter 4 (Rules of Practice and Procedure): Subchapters 1 (General Procedures), Subchapter 7 (Environmental Permit Process), and Appendix C (Permitting Process Summary); Chapter 100 (Air Pollution Control): Subchapter 5 (Registration, Emission Inventory and Annual Operating Fees), Subchapter 7 (Permits for Minor Sources), Subchapter 8 (Permits for Part 70 Sources), and Subchapter 9 (Excess Emissions Reporting Requirements). We noted we would take action on these sections in separate rulemakings. On July 16, 2010 the State submitted a letter to EPA withdrawing their 2002 submittal for Subchapter 9 (Excess Emissions Reporting Requirements).

We are proposing to approve the provisions of this 2002 SIP revision submittal as part of the Oklahoma major NSR SIP. We have reviewed the revisions being proposed for approval and believe they are consistent with the applicable requirements of the CAA for major NSR. Our evaluation of these revisions is discussed in more detail in the TSD found in the electronic docket for this action. The electronic docket can be found at the Web site http://www.regulations.gov (docket number EPA-R06-OAR-2007-0314).

The revisions also require certain stationary sources of air pollution to report annual emissions (an emissions inventory) to the State by March 1 of each year, with the provision for an extension of up to 60 days (OAC 252:100-5-2.1). The revisions requiring reporting of emissions from stationary sources is consistent with our Air Emissions Reporting Requirements (40 CFR 51, Subpart A), which calls for States to report emissions from stationary sources.

The provisions submitted by the State that we are proposing to approve as part of the Oklahoma Major NSR SIP are the following:

• Chapter 4 (Rules of Practice and Procedure): Subchapter 1 (General Provisions).

• Chapter 4, Subchapter 7 (Environmental Permit Process), Part 1 (The Process) and Part 3 (Air Quality Division Tiers and Time Lines).

• Chapter 4, Appendix C (Permitting Process Summary).

• Chapter 100: Subchapter 5 (Registration, Emission Inventory and Annual Operating Fees).³

³ The revisions also require certain stationary sources of air pollution to report annual emissions (an emissions inventory) to the State by March 1 of each year, with the provision for an extension of up to 60 days (OAC 252:100-5-2.1). The revisions requiring reporting of emissions from stationary sources is consistent with our Air Emissions Reporting Requirements (40 CFR 51, Subpart A), which calls for States to report emissions from stationary sources. We are approving this as it applies to major stationary sources and major modifications.

• Chapter 100: Subchapter 8 (Permits for Part 70 Sources), Part 1 (General Provisions).

• Chapter 100: Subchapter 8, Part 5 (Permits for Part 70 Sources).

• Chapter 100: Subchapter 8, Part 7 (Prevention of Significant Deterioration (PSD) Requirements for Attainment Areas).

• Chapter 100: Subchapter 8, Part 9 (Major Sources Affecting Nonattainment Areas).

Thus EPA is proposing approval of these provisions as meeting the requirements of section 110 and parts C and D of the Act for a major NSR SIP.

At this time we are not taking action on any portion of the February 14, 2002 revision that pertains to minor new source review. The minor new source review submitted provisions are severable from the major NSR requirements and are severable from the transport SIP requirements addressed in this action. We intend to act on these provisions in a future rulemaking.

C. Oklahoma PSD SIP Revisions Submitted on June 24, 2010

The Oklahoma Department of Environmental Quality made a SIP revision submitted on June 24, 2010 to meet the requirements of the 8-hour NAAQS by including revisions to regulate NOX emissions in its PSD permit program as a precursor to ozone. The revisions add:

• NOX as an ozone precursor in the definition of Regulated NSR pollutant (OAC 252:100-8-31),

• That a major source that is major for NOX shall be considered major for ozone in the definition of Major stationary source (OAC 252:100-8-31),

• A NOX emissions rate of 40 tons per year or more in the definition of Significant (OAC 252:100-8-31), and

• That any net emissions increase of 100 tons per year or more of NOX subject to PSD would require an ambient impact analysis, including the gathering of air quality data (OAC 252:100-8-33).

For the 1997 8-hour ozone NAAQS, the revision to the definition of Regulated NSR pollutant meets the Federal definition in 40 CFR 51.166(b)(49) for NOX as an ozone precursor. The revision that a major source that is major for NOX shall be considered major for ozone meets the Federal definition in 40 CFR 51.166(b)(1). The revision to include a NOX emissions rate of 40 tons per year or more in the definition of “Significant” meets the Federal requirement for significant emission rate for NOX emissions in 40 CFR 51.166(b)(23)(i). The revision that any net emissions increase of 100 tons per year or more of NOX subject to PSD would require an ambient impact analysis, including the gathering of air quality data meets the Federal requirement for ambient air impact analysis for ozone precursors under the footnote for 40 CFR 166(i)(5)(i)(e). Thus, EPA is proposing approval of these revisions as meeting the requirements of CAA section 110 and 40 CFR 51.166 for establishing NOX emissions as a precursor for ozone.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely proposes to approve State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this proposed rule does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Intergovernmental relations, Incorporation by reference, Nitrogen oxides, Ozone, Particulate matter, Reporting and recordkeeping requirements, Volatile organic compounds.

Authority: 42 U.S.C. 7401 et seq.

Dated: September 9, 2010.
Al Armendariz,
Regional Administrator, Region 6.

[FR Doc. 2010-23291 Filed 9-16-10; 8:45 am]

BILLING CODE 6560-50-P